DEPARTMENT OF AGRICULTURE

Food and Nutrition Service

Request for Information: Supplemental Nutrition Assistance Program (SNAP) Income Conversion Factors for Anticipated Income

AGENCY: Food and Nutrition Service (FNS), USDA.

ACTION: Notice.

SUMMARY: The Food and Nutrition Service (FNS) seeks input on the use of the current Supplemental Nutrition Assistance Program (SNAP) income conversion factors used to anticipate a household's income for the purposes of SNAP eligibility when a household's income is received on a weekly or biweekly basis. FNS hopes to obtain perspective from State agencies and other stakeholders as it considers how to best balance the flexibilities States are granted in calculating anticipated monthly income under current SNAP regulations, while adhering to the legislative intent of reducing administrative burden on State agencies and removing barriers to eligibility for needy households.

DATES: Written comments must be received on or before May 15, 2017.

ADDRESSES: Comments may be sent to Sasha Gersten-Paal, Chief, Certification Policy Branch, Program Development Division, Food and Nutrition Service, U.S. Department of Agriculture, 3101 Park Center Drive, Room 812, Alexandria, VA 22302. Comments will also be accepted through the Federal eRulemaking Portal. Go to http://www.regulations.gov and follow the online instructions for submitting comments electronically. All written comments will be open for public inspection at the FNS office located at 3101 Park Center Drive, Alexandria, Virginia, 22302, Room 812, during regular business hours (8:30 a.m. to 5:00 p.m., Monday through Friday). All responses to this notice will be summarized and included in the request for Office of Management and Budget (OMB) approval. All comments will be a matter of public record.

FOR FURTHER INFORMATION CONTACT: Requests for additional information or copies of this request for information should be directed to Sasha Gersten-Paal via email to Sasha.Gersten-Paal@fns.usda.gov.

SUPPLEMENTARY INFORMATION: SNAP regulations at 7 CFR 273.10(c)(2)(i) provide State agencies with three options when converting weekly and biweekly income into anticipated monthly income: Multiplying by 4.3 for weekly income or by 2.15 for biweekly income; using the State agency's public assistance (PA) conversion standard; or, using a household's exact amount, if it can be anticipated. These options have been available to State agencies since the enactment of the Food Stamp Act of 1977, and the majority of States opt to use the first set of conversion factors.

Generally, when calculating a SNAP recipient's benefit amount, the lower the recipient's income, the greater their SNAP benefit will be. Some stakeholders contend that using the first set of conversion factors (4.3 for weekly income or 2.15 for biweekly income) underestimates a recipient's actual monthly income, which in turn raises the amount of the recipient's SNAP benefit. These stakeholders maintain that not only does this result in an overpayment to the recipient, it also creates inequity between SNAP recipients paid on a monthly basis and those paid on a weekly or biweekly basis. These stakeholders recommend that FNS increase income conversion accuracy by amending current SNAP regulations to carry the current factors out by two decimal places, specifically, to 4.33 for weekly income, and 2.17 for biweekly income.

In 1971, Congress amended the Food Stamp Act of 1964 and directed FNS to establish standards of eligibility for the Food Stamp Program. In implementing the amendment, FNS began adjusting a household's monthly income to include income anticipated to be received during the certification period. For income received less frequently than a monthly basis, the factors used to average income were 4.3 for weekly income, and 2.15 for biweekly income.

In the Food Stamp Act of 1977, Congress expanded the definition of anticipated income in Section 5(f) to include “income reasonably anticipated to be received” during the certification period, and again provided FNS the authority to establish standards for calculating anticipated income. The House Committee of Agriculture's Report on the Food Stamp Act of 1977 states that the purpose in adopting this standard was “. . . to smooth the way for participation by the needy, not to place obstacles in their path by making them out to be less needy than they in fact are.”

FNS codified these conversion factors through rulemaking, including a Notice of Proposed Rulemaking published on May 2, 1978, and a Final Rule published on October 17, 1978. Between the Proposed Rulemaking and the Final Rule, FNS received nearly 500 comments regarding the sections on determining anticipated income. In the preamble to the Final Rule, FNS stated that “State and local agencies were frequently concerned with the use of the proposed multipliers for converting income received on a weekly (4.3) or biweekly (2.15) basis. Some recommended using 4.333 and 2.167 to conform to the [Aid to Families with Dependent Children (AFDC)] factors for weekly and biweekly income conversions.” To address this concern, in addition to using the established factors of 4.3 and 2.15, the Final Rule permitted State agencies to align their conversion factors with other public assistance programs, or to use the exact monthly figure if it could be obtained for the entire certification period.

In 1981, Congress added Section 5(f)(4) to the Act and directed FNS to ensure, “to the extent feasible,” that the income of households receiving both Food Stamp benefits and benefits from AFDC, the predecessor to Temporary Assistance for Needy Families, were “calculated on a comparable basis under the two Acts.”

With this history in mind, FNS is seeking information from State agency partners and stakeholders on the following particular questions:

1. Of the three income conversion options provided by 7 CFR 273.10(c)(2)(i), which option does your State agency use?

a. Why does your State agency use this particular option?

b. What are the perceived strengths, if any, of this option?

c. What are the perceived weaknesses, if any, of this option?

2. What, if any, administrative challenges would your State agency face in adopting a different income conversion option?

3. What, if any, technological challenges would your State agency face in adopting a different income conversion option?

4. Is there another methodology in converting weekly and biweekly income that FNS should consider?

a. Why should this methodology be used in place of the current options outlined in 7 CFR 273.10(c)(2)(i)?

b. Does this methodology support the legislative intent of Congress in removing barriers to access to households in need of nutritional assistance?

c. Does this methodology support the legislative intent of Congress to grant States more flexibility?

Dated: March 6, 2017.
Jessica Shahin,
Acting Administrator, Food and Nutrition Service.

[FR Doc. 2017-05133 Filed 3-14-17; 8:45 am]

BILLING CODE 3410-30-P